DEPARTMENT OF HEALTH AND HUMAN SERVICES

National Institutes of Health

Notice of Vitamin D Standardization Program (VDSP) Symposium: Tools To Improve Laboratory Measurement

SUMMARY: The National Institutes of Health, Office of Dietary Supplements (ODS), and the National Institute of Standards and Technology (NIST), are sponsoring a one-day symposium on November 14, 2013, to present information about the Vitamin D Standardization Program (VDSP) to those with an interest in the effort to standardize vitamin D measurement. These groups include commercial assay manufacturers; commercial, clinical, and research laboratory personnel; vitamin D researchers; and members of professional societies with clinical and public health interest in vitamin D.

DATES: November 14, 2013, 8:30 a.m. to 5:30 p.m. (Eastern Time).

ADDRESSES: NIST, 100 Bureau Drive, Green Auditorium, Gaithersburg, MD 20899-1070. The NIST campus is a highly secured area. Because of this, you are required to register in advance and must present a current government-issued identification card with photo when entering the facility. The Web address for registration is https://events-support.com/events/VDSP_Symposium_2013.

FOR FURTHER INFORMATION CONTACT: Ms. Cindy Rooney, ODS, National Institutes of Health, 6100 Executive Boulevard, Room 3B01, Bethesda, MD 20892-7523; email: rooneyc@mail.nih.gov.

SUPPLEMENTARY INFORMATION: The ODS established the VDSP in November 2010 in an effort to standardize the laboratory measurement of vitamin D status worldwide. Standardization is essential to improve the detection, evaluation, and treatment of vitamin D deficiency and insufficiency by making measurements of serum total 25-hydroxyvitamin D [25(OH)D] accurate and comparable over time, location, and laboratory procedure.

The symposium on November 14 will (1) Describe the VDSP; (2) present data from the VDSP inter-laboratory comparison and commutability studies demonstrating its effectiveness; (3) demonstrate how tools developed through the VDSP can be used to improve the standardization of vitamin D measurement in the United States and around the world; and (4) solicit feedback from symposium participants on how the VDSP can be improved to meet the needs of participants. All participants must register at https://events-support.com/events/VDSP_Symposium_2013.

Dated: October 21, 2013.
Lawrence A. Tabak,
Deputy Director, NIH.

[FR Doc. 2013-25277 Filed 10-24-13; 8:45 am]

BILLING CODE 4140-01-P